Proclamation 9878 of May 3, 2019

Public Service Recognition Week, 2019

By the President of the United States of America

A Proclamation

During Public Service Recognition Week, we express our gratitude to our Nation's civil servants for their dedication to mission, service, and stewardship. These members of our Federal, State, and local government workforces deliver results for the American people, often without acclaim.

Each day, millions of government employees serve their fellow citizens, and we as a Nation recognize the valuable role they play in our communities. From the law enforcement officers and border patrol agents who keep our country safe and secure to those who work in education, healthcare, transportation, and other public service careers, civil servants ensure government works for the American people. Our country's brave men and women in uniform make up the greatest Armed Forces in the world. They are able to defend our freedom because civilian employees at the Department of Defense and the Department of Veterans Affairs work faithfully each day to fulfill President Abraham Lincoln's charge to “care for him who shall have borne the battle.” In often difficult circumstances, our civil servants respond to natural disasters, search for cures for diseases, protect information networks, and improve quality of life for their fellow Americans. They remain focused on their mission of serving and protecting.

My Administration understands that it is critical for Federal employees to provide high-quality service and to be good stewards of taxpayer dollars. To maintain these high standards, we are continuing to implement policies that create a more efficient and productive Federal Government. By removing unnecessary regulations and streamlining internal agency processes, we have helped eliminate barriers that stand in the way of Federal employees' efforts to do their jobs. We have also made it easier for the Federal Government to hire more military spouses, and we are giving a second chance to those with a criminal history.

This week, we pause to give tribute to the many civil servants who paid the ultimate price in service to our Nation. We will never forget their sacrifice, and we are proud to add their names to the Wall of Honor in the Theodore Roosevelt Federal Office Building, a tradition which began in 2013 to honor Federal civilian employees who died in the line of duty. My Administration also is pleased to launch the Gears of Government President's Award. This award program reinforces the President's Management Agenda by recognizing individuals and teams across the Federal workforce who support exceptional delivery of key mission, service, and stewardship outcomes for the American people.

During Public Service Recognition Week, we acknowledge the work our civil servants do for the American people on a daily basis, and we appreciate their willingness to dedicate their experience and expertise, and sometimes even their lives, to serving their fellow citizens.

NOW, THEREFORE, I, DONALD J. TRUMP, President of the United States of America, by virtue of the authority vested in me by the Constitution and the laws of the United States, do hereby proclaim May 5 through May 11, 2019, as Public Service Recognition Week. I call upon Americans and all Federal, State, tribal, and local government agencies to recognize the dedication of our Nation's public servants and to observe this week through appropriate programs and activities.

IN WITNESS WHEREOF, I have hereunto set my hand this third day of May, in the year of our Lord two thousand nineteen, and of the Independence of the United States of America the two hundred and forty-third.

[FR Doc. 2019-09760

Filed 5-8-19; 11:15 am]

Billing code 3295-F9-P